ENVIRONMENTAL PROTECTION AGENCY

[FRL-7576-5]

Crimson Resource Management—Administrative Complaint Consent Agreement and Final Order—Notice of Proposed Administrative Consent Agreement and Final Order Pursuant to Section 311(b)(6) of the Clean Water Act

AGENCY: Environmental Protection Agency.

ACTION: Notice, request for public comments.

SUMMARY: In accordance with section 311(b)(6)(C) of the Clean Water Act, (“CWA”), 33 U.S.C. 1321(b)(6)(C), notice is hereby given of a proposed Complaint, Consent Agreement and Final Order (“CCA/FO,” Region 9 Docket No. OPA 9-2003-0003), which resolves penalties for alleged violations of sections 311(b)(3) and 311(j) of the CWA. The respondent to the CCA/FO is Crimson Resource Management Corp. Through the proposed CCA/FO, Crimson Resource Management Corp. will pay $30,000 to the Oil Spill Liability Trust Fund as a penalty for alleged violations involving the discharge of oil into waters of the United States, and the failure to prepare and maintain a Spill Prevention, Control and Countermeasure plan. The penalty included in this CCA/FO was calculated in accordance with the Agency's guidance document, Civil Penalty Policy for Section 311(b)(3) and section 311(j) of the Clean Water Act, dated August 21, 1998. For forty (40) days following the date of publication of this Notice, the Agency will receive written comments relating to the proposed CCA/FO. Any person who comments on the proposed CCA/FO shall be given notice of any hearing held and a reasonable opportunity to be heard and to present evidence. If no hearing is held regarding comments received, any person commenting on this proposed CCA/FO may, within 40 days after the issuance of the final order, petition the Agency to set aside the CCA/FO, as provided by section 311(b)(6)(C)(iii) of the CWA, 33 U.S.C. 1321(b)(6)(C)(iii).

DATES: Comments must be submitted on or before December 1, 2003.

ADDRESSES: The proposed CCA/FO may be obtained from Laurie Williams, telephone (415) 972-3867. Comments regarding the proposed CCA/FO should be addressed to Danielle Carr (ORC-1) at 75 Hawthorne Street, San Francisco, California 94105, and should reference Crimson Resource Management Corp. and Region 9 Docket No. OPA 9-2003-0007.

FOR FURTHER INFORMATION CONTACT: Laurie Williams (ORC-3), Office of Regional Counsel, U.S. Environmental Protection Agency, Region 9, 75 Hawthorne Street, San Francisco, CA 94105, (415) 972-3867.

Dated: September 26, 2003.
Keith Takata,
Director, Superfund Division, Region 9.

[FR Doc. 03-26544 Filed 10-20-03; 8:45 am]

BILLING CODE 6560-50-P